DEPARTMENT OF TRANSPORTATION

Research and Special Programs Administration

Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR Part 107, Subpart B), notice is hereby given that the office of hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before February 22, 2005.

ADDRESS COMMENTS TO: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemption is published in accordance with Part 107 of the Federal hazardous materials transportation law (49 U.S.C. 5117(b); 49 CFR 1.53(b)).

Issued in Washington, DC, on January 13, 2005.
R. Ryan Posten,
Exemptions Program Officer, Office of Hazardous Materials Safety Exemptions & Approvals.

New Exemption
Application No. | Docket No. | Applicant | Regulation(s) affected | Nature of exemption thereof
14076-N |  | Florida Power & Light Company Florida City, FL | 49 CFR 173.403, 173.427(a), 173.465(c) and (d) | To authorize the transportation in commerce of two Class 7 nuclear reactor heads in alternative packaging. (modes 1, 3).
14096-N |  | United States Enrichment Corporation (USEC) Paducah, KY | 49 CFR 173.420 | To authorize the one-time, one-way transportation in commerce of uranium hexafloride in alternative packaging. (mode 1).
14097-N |  | S.C. Johnson & Sons, Inc. Racine, WI | 49 CFR 173.306 | To authorize the transportation in commerce of Division 2.2 aerosols of less than 20 ounce capacity in plastic packagings. (modes 1, 2, 4).

[FR Doc. 05-1059 Filed 1-19-05; 8:45 am]

BILLING CODE 4909-60-M